SMALL BUSINESS ADMINISTRATION

[Disaster Declaration #14589 and #14590]

Mississippi Disaster Number MS-00083

AGENCY: U.S. Small Business Administration.

ACTION: Amendment 2.

SUMMARY: This is an amendment of the Presidential declaration of a major disaster for Public Assistance Only for the State of Mississippi (FEMA-4248-DR), dated 01/04/2016.

Incident: Severe Storms, Tornadoes, Straight-line Winds, and Flooding.

Incident Period: 12/23/2015 through 12/28/2015.

Effective Date: 01/22/2016.

Physical Loan Application Deadline Date: 03/04/2016.

Economic Injury (EIDL) Loan Application Deadline Date: 10/04/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Mississippi, dated 01/04/2016, is hereby amended to include the following areas as adversely affected by the disaster.

Primary Counties: Clay, Itawamba, Monroe, Prentiss, Tallahatchie.

All other information in the original declaration remains unchanged.

(Catalog of Federal Domestic Assistance Numbers 59002 and 59008)

James E. Rivera,
Associate Administrator for Disaster Assistance.

[FR Doc. 2016-02483 Filed 2-8-16; 8:45 am]

BILLING CODE 8025-01-P